ENVIRONMENTAL PROTECTION AGENCY

40 CFR Part 125

[FRL-6862-8]

Extension of Comment Period for National Pollutant Discharge Elimination System; Regulations Addressing Cooling Water Intake Structures for New Facilities; Proposed Rule

AGENCY: Environmental Protection Agency.

ACTION: Notice of extension of comment period for proposed rule.

SUMMARY: EPA is extending the comment period for the proposed rule addressing cooling water intake structures for new facilities. The proposed rule was published in the Federal Register on August 10, 2000 (65 FR 49060). The comment period for the proposed rule is extended by 30 days, ending on November 9, 2000. In light of issues raised by the regulated community and the plaintiffs in the lawsuit establishing the schedule for this action, EPA agrees that extending the comment period to 90 days is appropriate due to the complexity and the range of issues raised by the proposed rule.

DATES: Comments on the proposed rule will be accepted through November 9, 2000.

ADDRESSES: Send written comments to: Cooling Water Intake Structure (New Facilities) Proposed Rule Comment Clerk—W-00-03, Water Docket, Mail Code 4101, EPA, Ariel Rios Building, 1200 Pennsylvania Ave., N.W., Washington, DC 20460. Comments delivered in person (including overnight mail) should be submitted to the Cooling Water Intake Structure (New Facilities) Proposed Rule Comment Clerk—W-00-03, Water Docket, Room EB 57, 401 M Street, S.W., Washington DC 20460. Please submit any references cited in your comments. Submit an original and three copies of your written comments and enclosures. No facsimiles (faxes) will be accepted. For information on how to submit electronic comments, see the SUPPLEMENTARY INFORMATION section below.

FOR FURTHER INFORMATION CONTACT: For additional technical information, contact Deborah G. Nagle at (202) 260-2656, or James T. Morgan at (202) 260-6015. For additional economic information, contact Lynne Tudor at (202) 260-5384.

SUPPLEMENTARY INFORMATION: On August 10, 2000, EPA published proposed regulations under section 316(b) of the Clean Water Act (CWA) addressing cooling water intake structures for new facilities for public review and comment (65 FR 49060). The comment period was scheduled to end on October 10, 2000.

EPA has received requests to extend the comment period from the regulated community and from the plaintiffs in the lawsuit establishing the schedule for this action. In response to these requests, EPA is extending the comment period 30 days, through November 9, 2000, due to the complexity and the range of issues raised by the proposed rule. However, EPA does not believe that additional time beyond 90 days is needed to comment adequately on the proposed rule. The regulated community has known since October 1995 that EPA was operating under a court order entered by the U.S. District Court, Southern District of New York that requires EPA to propose and take final action on this rule. Thus, they have had sufficient time to plan and conduct research projects they would like to rely upon to support their comments (for example, research into the survival rates of organisms drawn into and later discharged from cooling water intake systems). EPA conducted two public meetings on this rulemaking in 1998 and has met on numerous occasions with interested parties to discuss the Agency's plans for regulating cooling water intake structures. In particular, in May and June 2000, EPA held a series of meetings with interested groups to describe the draft framework for the proposed rule. EPA also made copies of the proposed rule and preamble available to representatives of potentially regulated industries, States, and environmental groups on July 21, 2000, 19 days prior to publication of the proposed rule and preamble in the Federal Register.

In addition to accepting hard-copy written comments, EPA will also accept comments submitted electronically. Electronic comments must be submitted as a Word Perfect 5/6/7/8 or ASCII file and must be submitted to ow-docket@epa.gov.

Dated: August 24, 2000.
J. Charles Fox,
Assistant Administrator for Water.

[FR Doc. 00-22387 Filed 8-30-00; 8:45 am]

BILLING CODE 6560-50-U